INTERNATIONAL TRADE COMMISSION

[USITC SE-03-043]

Sunshine Act Meeting

AGENCY HOLDING THE MEETING: International Trade Commission.

TIME AND DATE: January 5, 2004, at 11 a.m.

PLACE: Room 101, 500 E Street, SW., Washington, DC 20436, Telephone: (202) 205-2000.

STATUS: Open to the public.

MATTERS TO BE CONSIDERED: 1. Agenda for future meetings: none.

2. Minutes.

3. Ratification List.

4. Inv. Nos. 701-TA-437 and 731-TA-1060-1061 (Preliminary)(Cabrazole Violet Pigment 23 from China and India)—briefing and vote. (The Commission is currently scheduled to transmit its determination to the Secretary of Commerce on January 5, 2004; Commissioners' opinions are currently scheduled to be transmitted to the Secretary of Commerce on or before January 12, 2004.)

5. Outstanding action jackets: none.

In accordance with Commission policy, subject matter listed above, not disposed of at the scheduled meeting, may be carried over to the agenda of the following meeting.

Issued: December 23, 2003.
By order of the Commission.
Marilyn R. Abbott,
Secretary to the Commission.

[FR Doc. 03-32224 Filed 12-24-03; 1:55 pm]

BILLING CODE 7020-02-M